DEPARTMENT OF DEFENSE

Department of the Army

Privacy Act of 1974; System of Records

AGENCY: Department of the Army, DoD.

ACTION: Notice to amend systems of records.

SUMMARY: The Department of the Army is amending eight systems of records notices in its existing inventory of records systems subject to the Privacy Act of 1974, (5 U.S.C. 552a), as amended.

The amendments are required to alert the users of these systems of records of the additional requirements of the Health Insurance Portability and Accountability Act (HIPAA) of 1996, as implemented by DoD 6025.18-R, DoD Health Information Privacy Regulation. Language being added under the “Routine Use” category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

DATES: This proposed action will be effective without further notice on April 28, 2003 unless comments are received which result in a contrary determination.

ADDRESSES: Department of the Army, Freedom of Information/ Privacy Act Office, U.S. Army Records Management and Declassification Agency, Attn: TAPC-PDD-FP, 7798 Cissna Road, Suite 205, Springfield, VA 22153-3166.

FOR FURTHER INFORMATION CONTACT: Ms. Janice Thornton at (703) 806-7137 DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 19, 2003.
Patricia L. Toppings,
Alternate OSD Federal Register Liaison Officer, Department of Defense.

A0040 DASG

System name:

Medical Facility Administration Records (August 7, 1997, 62 FR 42524).

Changes:

* * * * *

Category of records in the system:

Add to entry “sponsor’s and patient's Social Security Number”,

* * * * *

Routine uses of records maintained in the system, including categories of users and the purposes of such uses:

Add a new paragraph to the end of the entry.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Storage:

Delete entry and replace with “Paper in file folders and electronic storage media.”

Retrievability:

Delete entry and replace with “By individual”s surname/Social Security Number and sponsor's Social Security Number.”

* * * * *

Retention and disposal:

Change “20 years” to “5 years.”

* * * * *

A0040 DASG

System name:

Medical Facility Administration Records.

System location:

Medical centers, hospitals, and health clinics. Official mailing addresses are published as an appendix to the Army’s compilation of systems of records notices.

Categories of individuals covered by the system:

Individuals who are authorized to use services of an Army medical facility.

Categories of records in the system:

Information in this system generally relates to administration at a medical facility, as opposed to an individual's health/care. Typically, records comprise scheduling of appointments, medical history data used to locate medical records, patience's name, Social Security Number, birth, death, sponsor's Social Security Number, accountability of patients (e.g., bad charts; transfer, leave requests, etc.); receipts for patients' personal property, prescriptions for medications, eyeglasses, hearing aids, prosthetic devices, diet/special nourishment plans, blood donor records, charges, receipts and accounting, documents of payments for medical/dental services; register number assigned; and similar records/reports.

Authority for maintenance of the system:

5 U.S.C. 301, Departmental Regulations; 10 U.S.C. 3013, Secretary of the Army; Army Regulation 40-2, Army Medical Facilities General Admission; and E.O. 9397 (SSN).

Purpose(s):

To locate medical records and personnel, schedule appointments; provide research and statistical data.

To enhance efficient management practices and effective patient administration.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Birth records are disclosed to states' Bureau of Vital Statistics and overseas birth records are disclosed to the Department of State to provide the official certificates of birth. Birth records may also be used for statistical purposes.

Death records are disclosed to federal, state and private sector authorities to provide the official certificates of death. Death records may also be used for statistical purposes.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper in file folders and electronic storage media.

Retrievability:

By individual's surname/Social Security Number and sponsor's Social Security Number.

Safeguards:

Records are maintained within secured buildings in areas accessible only to persons having official need-to-know, and who are properly trained and screened. Automated segments are protected by controlled system passwords governing access to data.

Retention and disposal:

Nominal index files, including register numbers assigned, are destroyed after 5 years. Records of transient value (e.g., issuance of spectacles/prosthetics, diet/food plan, etc.) are destroyed within 3 months of patient's release. Other records have varying periods of retention: Record of birth/death 2 years; patient accountability (admission/discharge) 5 years; blood donor 5 years or when no longer needed for medical/legal reasons whichever is longer; record of patient's personal property 3 years.

System manager(s) and address:

Chief Information Officer, Office of the Surgeon General, U.S. Army Medical Command, Attn: MCIM, 2050 Worth Road, Suite 13, Fort Sam Houston, TX 78234-6013.

Notification procedure:

Individuals seeking to determine whether information about themselves is contained in this system should address written inquiries to the Patient Administrator at the medical facility where service/care was provided. Official mailing addresses are published as an appendix to the Army's compilation of systems of records notices.

For verification purposes, individual should provide the full name, Social Security Number, details which will assist in locating record, and signature.

RECORD ACCESS PROCEDURES:

Individuals seeking access to information about themselves contained in this system should address written inquiries to the Patient Administrator at the medical facility where service/care was provided. Official mailing addresses are published as an appendix to the Army's compilation of systems of records notices. For verification purposes, individual should provide the full name, Social Security Number, details which will assist in locating record, and signature.

CONTESTING RECORD PROCEDURES:

The Army's rules for accessing records, and for contesting contents and appealing initial agency determinations are contained in Army Regulation 340-21; 32 CFR part 505; or may be obtained from the system manager.

RECORD SOURCE CATEGORIES:

From the individual; medical facility records and reports.

EXEMPTIONS CLAIMED FOR THE SYSTEM:

None.

A0040-1 DASG

SYSTEM NAME:

Professional Consultant Control Files (November 20, 2001, 66 FR 58128).

Changes:

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

RETRIEVABILITY:

Add to entry “Social Security Number.”

* * * * *

A0040 1 DASG

SYSTEM NAME:

Professional Consultant Control Files.

SYSTEM LOCATION:

Office of the Surgeon General, Headquarters, Department of the Army; U.S. Army Medical Command; U.S. Army Medical Command, Europe; U.S. Army Medical Command, Korea. Official mailing addresses are published as an appendix to the Army’s compilation of system of records notices.

CATEGORIES OF INDIVIDUALS COVERED BY THE SYSTEM:

Any individual who has been appointed as a professional consultant in the professional medical services.

CATEGORIES OF RECORDS IN THE SYSTEM:

Name, Social Security Number, address, curriculum vitae, appointment, duties, experience, compensation of appointed consultants.

AUTHORITY FOR MAINTENANCE OF THE SYSTEM:

10 U.S.C. 3013, Secretary of the Army; 10 U.S.C., Chapter 55, Medical and Dental Care; Army Regulation 40-1, Composition, Mission, and Function of The Army Medical Department; and E.O. 9397 (SSN).

PURPOSE(S):

To evaluate and appoint select individuals as professional consultants.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

STORAGE:

Paper records in file folders.

RETRIEVABILITY:

By name and Social Security Number.

SAFEGUARDS:

Records are maintained in secured areas accessible only to authorized individuals having official need therefore in the performance of assigned duties.

RETENTION AND DISPOSAL:

Records are destroyed 1 year after termination of consultant's appointment.

SYSTEM MANAGER(S) AND ADDRESS:

Chief Information Officer, Office of the Surgeon General, U.S. Army Medical Command, 2050 Worth Road, Suite 13, Fort Sam Houston, TX 78234-6013.

NOTIFICATION PROCEDURE:

Individuals seeking to determine whether information about themselves is contained in this system should address written inquiries to Chief Information Officer, Office of the Surgeon General, U.S. Army Medical Command, 2050 Worth Road, Suite 13, Fort Sam Houston, TX 78234-6013.

For verification purposes, the individual should provide the full name, current address and telephone number, and signature.

RECORD ACCESS PROCEDURES:

Individuals seeking access to information about themselves contained in this system should address written inquiries to Chief Information Officer, Office of the Surgeon General, U.S. Army Medical Command, 2050 Worth Road, Suite 13, Fort Sam Houston, TX 78234-6013.

For verification purposes, the individual should provide the full name, current address and telephone number, and signature.

CONTESTING RECORD PROCEDURES:

The Army's rules for accessing records, and for contesting contents and appealing initial agency determinations are contained in Army Regulation 340-21; 32 CFR part 505; or may be obtained from the system manager.

RECORD SOURCE CATEGORIES:

From the individual, Army records and reports.

EXEMPTIONS CLAIMED FOR THE SYSTEM:

None.

A0040-3a DASG

SYSTEM NAME:

Medical Review Files (August 7, 1997, 62 FR 42525).

CHANGES:

* * * * *

AUTHORITY FOR MAINTENANCE OF THE SYSTEM:

Delete entry and replace with “10 U.S.C. 3013, Secretary of the Army; 10 U.S.C. Chapter 55, Medical and Dental Care; and Army Regulation 40-3, Medical, Dental, and Veterinary Care.”

* * * * *

ROUTINE USES OF RECORDS MAINTAINED IN THE SYSTEM, INCLUDING CATEGORIES OF USERS AND THE PURPOSES OF SUCH USES:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-3a DASG

SYSTEM NAME:

Medical Review Files.

SYSTEM LOCATION:

The Surgeon General, U.S. Army Medical Command, Attn: MCIM, 2050 Worth Road, Suite 13, Fort Sam Houston, TX 78234-6013.

CATEGORIES OF INDIVIDUALS COVERED BY THE SYSTEM:

Applicants and registrants who are being considered for Army service and whose medical fitness is questionable; Army members being considered for continuance in service, promotion, special assignment, or separation whose medical fitness is questioned either by the medical evaluating authority or by the individual.

CATEGORIES OF RECORDS IN THE SYSTEM:

Files contain documents relating to medical fitness of individuals for appointment, enlistment, retention in service, promotion, special assignment, or separation. Included are reports of medical examination and evaluation, psychological evaluation reports, and similar or related documents.

AUTHORITY FOR MAINTENANCE OF THE SYSTEM:

10 U.S.C. 3013, Secretary of the Army; 10 U.S.C. Chapter 55, Medical and Dental Care; and Army Regulation 40-3, Medical, Dental, and Veterinary Care.

PURPOSE(S):

To evaluate medical fitness of marginally qualified personnel for Army program with strict regard to established medical standards.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

Storage:

Paper records in file folders.

Retrievability:

By individual's name.

Safeguards:

Records are maintained in secured areas accessible only to designated personnel having official need therefor in the performance of assigned duties.

Retention and disposal:

Destroyed after 3 years.

System manager(s) and address:

Chief Information Officer, Office of the Surgeon General, U.S. Army Medical Command, Attn: MCIM, 2050 Worth Road, Suite 13, Fort Sam Houston, TX 78234-6013.

Notification procedure:

Individuals seeking to determine whether information about themselves is contained in this system should address written inquiries to Chief Information Officer, Office of the Surgeon General, U.S. Army Medical Command, Attn: MCIM, 2050 Worth Road, Suite 13, Fort Sam Houston, TX 78234-6013.

For verification purposes, the individual should provide the full name, place and date of medical examination, additional details that will facilitate locating the record, and signature.

Record access procedures:

Individuals seeking access to information about themselves contained in this system should address written inquiries to Chief Information Officer, Office of the Surgeon General, U.S. Army Medical Command, Attn: MCIM, 2050 Worth Road, Suite 13, Fort Sam Houston, TX 78234-6013.

For verification purposes, the individual should provide the full name, place and date of medical examination, additional details that will facilitate locating the record, and signature.

Contesting record procedures:

The Army's rules for accessing records, and for contesting contents and appealing initial agency determinations are contained in Army Regulation 340-21; 32 CFR part 505; or may be obtained from the system manager.

Record source categories:

From clinical records, health records, medical boards, civilian physicians, consultation reports, other Army records and reports.

Exemptions claimed for the system:

None.

A0040-3b DASG

System name:

Medical Evaluation Files (August 7, 1997, 62 FR 42526).

Changes:

* * * * *

Categories of records in the system:

Add to entry “individual's name and Social Security Number.”

Authority for maintenance of the system:

Delete entry and replace with “10 U.S.C. 3013, Secretary of the Army; 10 U.S.C. Chapter 55, Medical and Dental Care; 10 U.S.C. Chapter 61, Retirement or Separation for Physical Disability; and Army Regulation 40-3, Medical, Dental, and Veterinary Care; and E.O. 9397 (SSN).”

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Retrievability:

Add to entry “Social Security Number.”

* * * * *

A0040-3b DASG

System name:

Medical Evaluation Files.

System location:

U.S. Army Physical Evaluation Board, Walter Reed Army Medical Center, 6900 Georgia Avenue, NW, Washington, DC 20307-5001;

Fort Sam Houston Physical Evaluation Board, 1200 Stanley Road, Fort Sam Houston, Texas 78234-5010;

Fort Lewis Physical Evaluation Board, Madigan Army Medical Center, Tacoma, Washington 98431-5303;

U.S. Army Physical Disability Agency, Water Reed Army Medical Enter, 6900 George Avenue, Washington, DC 20307-5001; and any other Army Medical Department medical facilities convening a medical board.

Categories of individuals covered by the system:

Army members whose medical fitness for continued service has been questioned either by the member or his/her commander.

Categories of records in the system:

Personal information concerning the member, i.e., individual's name and Social Security Number; certain codes of specific types of injuries for research study purposes; Department of Veterans Affairs Schedule for Rating Disability Diagnostic Codes; documents reflecting determination by an Army board of medical fitness for continued Army active service; board proceedings and related documents.

Authority for maintenance of the system:

10 U.S.C. 3013, Secretary of the Army; 10 U.S.C. Chapter 55, Medical and Dental Care; 10 U.S.C. Chapter 61, Retirement or Separation for Physical Disability; and Army Regulation 40-3, Medical, Dental, and Veterinary Care; and E.O. 9397 (SSN).

Purpose(s):

Records are used by Medical Boards to determine medical fitness for continued Army active service. They are used by the Physical Evaluation Board to review board findings when required and to determine if the individual should be discharged, temporarily or permanently retired for disability, or retained for active service. The U.S. Physical Disability Agency reviews determinations and dispositions, and responds to inquiries.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By individual's name and Social Security Number.

Safeguards:

Records are maintained in areas accessible only to authorized personnel who are properly screened and trained. Operation of data processing equipment and magnetic tapes are limited strictly to authorized personnel. Computer has key lock and key is controlled. Magnetic diskettes are stored and controlled to ensure they do not result in unauthorized disclosure of personal information.

Retention and disposal:

Records of Medical Boards are retained for 5 years and then destroyed. Records of the U.S. Army Physical Evaluation Boards are retained for 2 years or until discontinued, whichever occurs first. Records at the U.S. Army Physical Disability Agency are retained for 5 years and then destroyed. Destruction of all records is by shredding.

System manager(s) and address:

Chief, Patient Administration Division, Office of the Surgeon General, U.S. Army Medical Command, 2050 Worth Road, Fort Sam Houston, TX 78234-6000.

Notification procedure:

Individuals seeking to determine whether information about themselves is contained in this system should address written inquiries to Chief, Patient Administration Division, Office of the Surgeon General, U.S. Army Medical Command, 2050 Worth Road, Fort Sam Houston, TX 78234-6000.

For verification purposes, the individual should provide the full name, Social Security Number, details which will assist in locating pertinent records, and signature.

Record access procedures:

Individuals seeking access to information about themselves contained in this system should address written inquiries to Chief, Patient Administration Division, Office of the Surgeon General, U.S. Army Medical Command, 2050 Worth Road, Fort Sam Houston, TX 78234-6000.

For verification purposes, the individual should provide the full name, Social Security Number, details which will assist in locating pertinent records, and signature.

Contesting record procedures:

The Army's rules for accessing records, and for contesting contents and appealing initial agency determinations are contained in Army Regulation 340-21; 32 CFR part 505; or may be obtained from the system manager.

Record source categories:

From the individual; medical records and reports.

Exemptions claimed for the system:

None.

A0040-3c DASG

System name:

Medical Regulating Files (August 27, 1999, 64 FR 46887).

Changes:

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-3c DASG

System name:

Medical Regulating Files.

System location:

Primary location: The Surgeon General, U.S. Army Medical Command, Attn: MCIM, 2050 Worth Road, Suite 13, Fort Sam Houston, TX 78234-6013.

Segments exist at Army medical treatment facilities, evacuation units and medical regulating offices. Official mailing addresses are published as an appendix to the Army's compilation of systems of records notices.

Categories of individuals covered by the system:

Any patient requiring transfer to another medical treatment facility who is reported to the Global Patient Movement Requirements Center by U.S. Government medical treatment facilities for designation of the receiving medical facility.

Categories of records in the system:

File contains information reported by the transferring medical treatment facility and includes, but is not limited to, patient identity, service affiliation and grade or status, sex, medical diagnosis, medical condition, special procedures or requirements needed, medical specialties required, administrative considerations, personal considerations, the patient's home town and/or duty station and other information having an impact on the transfer.

Authority for maintenance of the system:

10 U.S.C. 3013, Secretary of the Army and Army Regulation 40-3, Medical, Dental, and Veterinary Care.

Purpose(s):

To properly determine the appropriate medical treatment facility to which the reported patient will be transferred; to notify the reporting U.S. Government medical treatment facility of the transfer destination; to notify the receiving medical treatment facility of the transfer; to notify evacuation units, medical regulating offices and other government offices for official reasons; to evaluate the effectiveness of reported information; to establish further the specific needs of the reported patient; for statistical purposes; and when required by law and official purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The Army's ‘Blanket Routine Uses’ do not apply to these types records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By individual's name.

Safeguards:

Records are maintained in secured areas accessible only to authorized personnel who are properly screened and trained.

Retention and disposal:

Destroyed 1 year following the end of the calendar year in which the patient was reported to the Global Patient Movement Requirements Center.

System manager(s) and address:

Chief, Patient Administration Division, Office of the Surgeon General, U.S. Army Medical Command, Attn: MCHO-CL-P, Room G104, 2050 Worth Road, Fort Sam Houston, TX 78234-6013.

Notification procedure:

Individuals seeking to determine whether information about themselves is contained in this system should address written inquiries to Chief, Patient Administration Division, Office of the Surgeon General, U.S. Army Medical Command, Attn: MCHO-CL-P, Room G104, 2050 Worth Road, Fort Sam Houston, TX 78234-6013 or to the Patient Administrator at the medical treatment facility where service was provided.

Individual should provide full name, rank or status and parent service, approximate date of transfer, medical treatment facility from which transferred, and current address and telephone number.

Record access procedures:

Individuals seeking access to information about themselves contained in this system should address written inquiries to Chief, Patient Administration Division, Office of the Surgeon General, U.S. Army Medical Command, Attn: MCHO-CL-P, Room G104, 2050 Worth Road, Fort Sam Houston, TX 78234-6013 or to the Patient Administrator at the medical treatment facility where service was provided.

Individual should provide full name, rank or status and parent service, approximate date of transfer, medical treatment facility from which transferred, and current address and telephone number.

Contesting record procedures:

The Army's rules for accessing records, and for contesting contents and appealing initial agency determinations are contained in Army Regulation 340-21; 32 CFR part 505; or may be obtained from the system manager.

Record source categories:

From transferring and receiving treatment facilities, medical regulating offices, evacuation offices, and other U.S. Government offices, agencies and commands relevant to the patient transfer.

Exemptions claimed for the system:

None.

A0040-5 DASG

System name:

Occupational Health Records (March 29, 2002, 67 FR 15185).

Changes:

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-5 DASG

System name:

Occupational Health Records (March 29, 2002, 67 FR 15185).

System location:

U.S. Army Medical Command, 1216 Stanley Road, Suite 25m Fort Sam Houston, TX 78234-5053.

Categories of individuals covered by the system:

Active duty army, their family members, U.S. Army Reserve, National Guard on active duty or in drill status, U.S. Military Academy and Reserve Officer Training Corps cadets, when engaged in directed training, foreign national military assigned to Army components, Department of the Army civilian and non-appropriated fund personnel employed by the Army for whom specific occupational health examinations have been conducted and/or requested.

Categories of records in the system:

Name, Social Security Number, date and place of birth, marital status, dates of medical surveillance tests and their results; documents reflecting the training, experience and certification to work within hazardous environments; including personnel monitoring results and work are monitoring readings. Exposures to chemicals, radiation, physical environment, non-human primates, and similar and related documents; personnel protective equipment and medical programs required to limit exposure to environmental safety and health hazards are also included.

Authority for maintenance of the system:

10 U.S.C. 3013, Secretary of the Army; 5 U.S.C. 7902, Safety Programs; 29 U.S.C. 668, Programs of Federal Agencies; 29 CFR 1910, Occupational Safety and Health Standards; Army Regulation 40-5, Preventive Medicine; E.O. 12223, Occupational Safety Health Programs for Federal Employees; and E.O. 9397 (SSN).

Purpose(s):

To maintain a permanent record of work places, training, exposures, medial surveillance, and any medical care provided for eligible individuals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to appropriate Government agencies whose responsibility falls within the occupational health statutes identified under “Authority” above.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records, printouts, magnetic tapes and electronic storage media.

Retrievability:

By individual's name and/or Social Security Number.

Safeguards:

Access to all records is restricted to designated individuals whose official duties dictate an official need to know. Information in automated media are further protected from unauthorized access in locked rooms. All individuals afforded access are given periodic orientations concerning sensitivity of personal information and requirement to prevent unauthorized disclosure.

Retention and disposal:

Records are maintained by employing office until employee is separated at which time records are filed with the individual personnel record for 30 years. GB agent records maintain for 40 years then destroy.

System manager(s) and address:

Chief Information Officer, Office of the Surgeon General, U.S. Army Medical Command, 2050 Worth Road, Suite 13, Fort Sam Houston, TX 78234-6013.

Notification procedure:

Individuals seeking to determine whether information about themselves is contained in this system should address written inquiries to Chief Information Officer, Office of the Surgeon General, U.S. Army Medical Command, 2050 Worth Road, Suite 13, Fort Sam Houston, TX 78234-6013, or to the Patient Administrator at the appropriate medical treatment facility.

Individual must provide full name, Social Security Number, current address, telephone number, details of last location of record or employment, and signature.

Record access procedures:

Individuals seeking access to information about themselves contained in this system should address written inquiries to Chief Information Officer, Office of the Surgeon General, U.S. Army Medical Command, 2050 Worth Road, Suite 13, Fort Sam Houston, TX 78234-6013, or to the Patient Administrator at the appropriate medical treatment facility.

Individual must provide full name, Social Security Number, current address, telephone number, details of last location of record or employment, and signature.

Contesting record procedures:

The Army's rules for accessing records, and for contesting contents and appealing initial determination are contained in Army Regulation 340-21; 32 CFR part 505; or may be obtained from the system manager.

Record source categories:

From Army Medical records and reports.

Exemptions claimed for the system:

None.

A0040-11 DASG

System name:

Radiation Exposure Records (January 30, 2002, 67 FR 4412).

Changes:

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Storage:

Delete entry and replace with “Papers in file folders; film packets; and electronic storage media.”

* * * * *

Retention and disposal:

Replace second paragraph with “Radiation incident cases are destroyed after 75 years.”

* * * * *

A0040-11 DASG

System name:

Radiation Exposure Records.

Changes:

* * * * *

System location:

Army installations, activities, laboratories, etc., which use or store radiation producing devices or radioactive materials or equipment. Official mailing addresses are published as an appendix to the Army’s compilation of systems of records notices. An automated segment exists at Redstone Arsenal, AL 35898-5000.

Categories of individuals covered by the system:

All active duty Army, Reserve Army National Guard, and persons employed by the Army, to include contractors, who are occupationally exposed to radiation or radioactive materials.

Categories of records in the system:

Records contain individual's name, Social Security Number, date of birth, film badge number, coded cross-reference to place of assignment at time of exposure, dates of exposure and radiation dose, cumulative exposure, type of measuring device, and coded cross-reference to qualifying data regarding exposure readings. Documents reflecting individual's training, external and internal exposure to ionizing radiation, reports of investigation, reports of radiological exposures, and relevant management reports.

Authority for maintenance of the system:

10 U.S.C. 3013, Secretary of the Army; 29 U.S.C. Chapter 15, Occupational Safety and Health; Army Regulation 11-9, The Army Radiation Safety Program; Army Regulation 40-5, Preventive Medicine; Army Regulation 40-13, Medical Support—Nuclear Chemical Accidents and Incidents; Department of the Army Pamphlet 40-18, Personnel Dosimetry Guidance and Dose Recording Procedures for Personnel Occupationally Exposed to Ionizing Radiation; 10 CFR part 19, Nuclear Regulatory Commission and E.O. 9397 (SSN).

Purpose(s):

To monitor, evaluate, and control the risks of individual exposure to ionizing radiation or radioactive materials by comparison of test for short and long term exposure. Conduct investigations of occupational health hazards and relevant management studies and ensure efficiency in maintenance of prescribed safety standards. As well as ensure individual qualifications and education in handling radioactive materials are maintained.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the National Cancer Institute for epidemiological studies to assess the effects of occupational radiation exposure.

To the Center for Disease Control for epidemiological studies to assess the effects of occupational radiation exposure.

To the National Council on Radiation Protection and Measurement to research and evaluated radiation exposure levels for use in the development of guidance and recommendations on radiation protections and measurements.

To the Department of Veteran's Affairs to verify occupational radiation exposure for evaluating veterans benefit claims.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Papers in file folders; film packets; and electronic storage media.

Retrievability:

By individual's name and/or Social Security Number.

Safeguards:

Access to all records is restricted to designated individuals having official need therefore in the performance of assigned duties. In addition, access to automated records is controlled by Card Key System, which requires positive identification and authorization.

Retention and disposal:

Professional consultant control files destroy 1 year after termination. Clinical and pathological lab reports destroy when no longer needed for conducting business. Personnel dosimetry files destroy after 75 years. Personnel bioassays maintained by safety officers destroy after individual leaves the organizations or is no longer occupationally exposed; all other personnel bioassays are destroyed after 75 years. Ionizing radiation authorized personnel user listings destroy 5 years after transfer or separation of individual. Radiation incident cases are destroyed after 75 years.

System manager(s) and address:

Commander, U.S. Army Aviation Missile Command Ionizing Radiation Dosimetry Branch, Building 5417, Redstone Arsenal, AL 35898-5000.

Notification procedure:

Individuals seeking to determine whether information about themselves is contained in this system should address written inquiries to Commander, U.S. Army Aviation Missile Command Ionizing Radiation Dosimetry Branch, Building 5417, Redstone Arsenal, AL 35898-5000.

Individual must furnish full name, Social Security Number, dates and locations at which exposed to radiation or radioactive materials, etc., and signature.

Record access procedures:

Individuals seeking access to information about themselves contained in this system should address written inquiries to Commander, U.S. Army Aviation Missile Command Ionizing Radiation Dosimetry Branch, Building 5417, Redstone Arsenal, AL 35898-5000.

Individual must furnish full name, Social Security Number, dates and locations at which exposed to radiation or radioactive materials, etc., and signature.

Contesting record procedures:

The Army's rules for accessing records, and for contesting contents and appealing initial agency determinations are contained in Army Regulation 340-21; 32 CFR part 505; or may be obtained from the system manager.

Record source categories:

From the individual, dosimetry film, Army and/or DoD records and reports.

Exemptions claimed for the system:

None.

A0040-31a DASG

System name:

Pathology Consultation Record Files (August 7, 1997 62 FR 42530).

Changes:

* * * * *

Categories of individuals covered by the system:

Delete entry and replace with “Individuals treated worldwide in military, Federal, or civilian medical service facilities whose cases were reviewed on a consultative, educational, or research basis by Armed Forces Institute of Pathology’s staff.”

Categories of records in the system:

Delete entry and replace with “Documents, digital images, microscopic glass slides, paraffin-embedded tissue blocks, formalin-fixed tissue, frozen fresh tissue, x-ray, photographs, and any other material sent in with the case or generated by the Armed Forces Institute of Pathology in reviewing the case or using the case in research of education activities.”

* * * * *

Routine uses of records maintained in the system, including categories of users and the purposes of such uses:

Add a new paragraph to the end of the entry.

“Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Storage:

Delete entry and replace with “Paper and photographs in file folders, X-rays, electronic storage media, tissue blocks in appropriate storage containers; and microscopic slides in cardboard file folders.”

Safeguards:

Delete entry and replace with “Records are stored in secured rooms protected by cipher locks accessible to personnel having a need-to-know in the performance of their official duties. Access to computerized information is controlled by password and is restricted to personnel having a need-to-know, who are also properly screened and trained in access procedures.”

* * * * *

A0040-31a DASG

System name:

Pathology Consultation Record Files.

System location:

Armed Forces Institute of Pathology, 6825 16th Street, NW., Washington, DC 20306-6000.

Categories of individuals covered by the system:

Individuals treated worldwide in military, Federal, or civilian medical service facilities whose cases were reviewed on a consultative, educational, or research basis by Armed Forces Institute of Pathology’s staff.

Categories of records in the system:

Documents, digital images, microscopic glass slides, paraffin-embedded tissue blocks, formalin-fixed tissue, frozen fresh tissue, X-ray, photographs, and any other material sent in with the case or generated by the Armed Forces Institute of Pathology in reviewing the case or using the case in research of education activities.

Authority for maintenance of the system:

10 U.S.C. 3013, Secretary of the Army; 10 U.S.C., Chapter 55 Medical and Dental Care; and Army Regulation 40-31, Armed Forces Institute of Pathology and Armed Forces Histopathology Centers; and E.O. 9397 (SSN).

Purpose(s):

To ensure complete medical data are available to pathologist providing consultative diagnosis to requesting physician in order to improve quality of care provided to individuals; to provide a data base for education of medical personnel; to provide a data base for medical research and statistical purposes and when required by law or for official purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Individual records may be released to referring physician, to physicians treating the individual, to qualified medical researchers and students, and to other Federal agencies and law enforcement personnel when requested for official purposes involving criminal prosecution, civil court action or regulatory orders.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper and photographs in file folders, X-rays, electronic storage media, tissue blocks in appropriate storage containers; and microscopic slides in cardboard file folders.

Retrievability:

By last name or terminal digit number (Social Security Number) or accession number assigned when case is received for consultation.

Safeguards:

Records are stored in secured rooms protected by cipher locks accessible to personnel having a need-to-know in the performance of their official duties. Access to computerized information is controlled by password and is restricted to personnel having a need-to-know, who are also properly screened and trained in access procedures.

Retention and disposal:

Retained as long as case material has value for medical research or education. Individual cases are reviewed periodically and materials no longer of value to the Institute are destroyed.

System manager(s) and address:

Chief, Automated Management Services, Armed Forces Institute of Pathology, 6825 16th Street, NW., Washington, DC 20306-2400.

Notification procedure:

Individuals seeking to determine whether information about themselves is contained in this system should address written inquiries to the Administrator, Department of Epidemiology, Repository, and Research Services, Armed Forces Institute of Pathology, 6825 16th Street, NW., Washington, DC 20306-6000.

Requesting individual must submit full name, name, Social Security Number or service number of military sponsor and branch of military service, if applicable, or accession number assigned by the Armed Forces Institute of Pathology, if known. For requests made in person, identification such as military ID card or valid driver's license is required.

Record access procedures:

Individuals seeking access to information about themselves contained in this system should address written inquiries to the Administrator, Department of Epidemiology, Repository, and Research Services, Armed Forces Institute of Pathology, 6825 16th Street, NW., Washington, DC 20306-6000.

Requesting individual must submit full name, name, Social Security Number or service number of military sponsor and branch of military service, if applicable, or accession number assigned by the Armed Forces Institute of Pathology, if known. For requests made in person, identification such as military ID card or valid driver's license is required.

Contesting record procedures:

The Army's rules for accessing records, and for contesting contents and appealing initial agency determinations are contained in Army Regulation 340-21; 32 CFR part 505; or may be obtained from the system manager.

Record source categories:

Interview, diagnostic test, other available administrative or medical records obtained from civilian or military sources.

Exemptions claimed for the system:

None.

[FR Doc. 03-7105 Filed 3-26-03; 8:45 am]

BILLING CODE 5001-08-P